NATIONAL AERONAUTICS AND SPACE ADMINISTRATION

[Notice (04-119)]

NASA Advisory Council, Space Science Advisory Committee; Meeting.

AGENCY: National Aeronautics and Space Administration (NASA).

ACTION: Notice of Meeting.

SUMMARY: In accordance with the Federal Advisory Committee Act, Public Law 92-463, as amended, the National Aeronautics and Space Administration announces a forthcoming meeting of the NASA Advisory Council (NAC), Space Science Advisory Committee (SScAC).

DATES: Monday, November 15, 2004, 8:30 a.m. to 5:30 p.m., Tuesday, November 16, 2004, 8:30 a.m. to 5:30 p.m., and Wednesday, November 17, 2004, 8:30 a.m. to 11 a.m.

ADDRESSES: Newport Beach Marriott, 900 Newport Center Drive, Newport Beach, CA 92660.

FOR FURTHER INFORMATION CONTACT: Ms. Marian R. Norris, Office of Space Science, National Aeronautics and Space Administration, Washington, DC 20546, (202) 358-4452.

SUPPLEMENTARY INFORMATION: The meeting will be open to the public up to the capacity of the room. The agenda for the meeting includes the following topics:

—Associate Administrator's Directorate Status Report and Discussion.

—Science Management Processes.

—Committee Reorganization Planning.

—Division Program Status Reports.

—Presentation of Subcommittee Reports.

—Earth Science Research Strategy.

It is imperative that the meeting be held on these dates to accommodate the scheduling priorities of the key participants. Visitors to the meeting will be requested to sign a visitor's register.

P. Diane Rausch,
Advisory Committee Management Officer, National Aeronautics and Space Administration.

[FR Doc. 04-24553 Filed 11-1-04; 8:45 am]

BILLING CODE 7510-13-U